DEPARTMENT OF AGRICULTURE

Animal and Plant Health Inspection Service

[Docket No. APHIS-2017-0013]

Notice of Request for Revision to and Extension of Approval of an Information Collection; Swine Health Protection

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the swine health protection program.

DATES: We will consider all comments that we receive on or before May 30, 2017.

ADDRESSES: You may submit comments by either of the following methods:

• Federal eRulemaking Portal: Go to http://www.regulations.gov/#!docketDetail;D=APHIS-2017-0013.

• Postal Mail/Commercial Delivery: Send your comment to Docket No. APHIS-2017-0013, Regulatory Analysis and Development, PPD, APHIS, Station 3A-03.8, 4700 River Road, Unit 118, Riverdale, MD 20737-1238.

Supporting documents and any comments we receive on this docket may be viewed at http://www.regulations.gov/#!docketDetail;D=APHIS-2017-0013 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the swine health protection program, contact Dr. John Korslund, Staff Epidemiologist, Surveillance, Preparedness, and Response, Veterinary Services, APHIS, 4700 River Road, Unit 46, Riverdale, MD 20737; (301) 851-3468. For copies of more detailed information on the information collection, contact Ms. Kimberly Hardy, APHIS' Information Collection Coordinator, at (301) 851-2483.

SUPPLEMENTARY INFORMATION:

Title: Swine Health Protection.

OMB Control Number: 0579-0065.

Type of Request: Revision to and extension of approval of an information collection.

Abstract: Under the Animal Health Protection Act (7 U.S.C. 8301 et seq.), the Animal and Plant Health Inspection Service (APHIS) of the U.S. Department of Agriculture is authorized, among other things, to prohibit or restrict the interstate movement of animals and animal products to prevent the dissemination within the United States of animal diseases and pests of livestock and to conduct programs to detect, control, and eradicate pests and diseases of livestock.

The Swine Health Protection Act (the Act) prohibits the feeding of garbage to swine intended for interstate movement or foreign commerce or that substantially affect such commerce unless the garbage has been treated to kill disease organisms. Untreated garbage is one of the primary media through which numerous infectious and communicable diseases can be transmitted to swine. APHIS' regulations promulgated under the Act, which are located at 9 CFR part 166, require that garbage intended to be fed to swine must be treated at a facility that holds a valid permit to treat the garbage and must be treated in accordance with the regulations.

As part of its swine health protection program, APHIS conducts a pseudorabies (PRV) eradication program in cooperation with State governments, swine producers, swine shippers, herd owners, and accredited veterinarians. The program identifies PRV-affected swine, provides herd management techniques, and has eliminated PRV in commercial production herds. However, APHIS periodically finds infected swine when swine are exposed to feral swine or other swine that have had exposure to feral swine.

The regulations in 9 CFR parts 71 and 85 facilitate the PRV eradication program and general swine health by providing requirements for moving swine interstate within a swine production system. (A production system consists of separate farms that each specialize in a different phase of swine production such as sow herds, nursery herds, and finishing herds. These separate farms, all members of the same production system, may be located in more than one State.)

The regulations for the feeding of garbage to swine and for the PRV eradication program require the use of a number of information collection activities, including the creation of food waste reports; the completion of applications to operate garbage treatment facilities and acknowledgement of the Act and regulations; garbage treatment facility inspection; cancellation of license by State animal health officials; request for a hearing; cancellation of license by licensee; notification by licensee of sick or dead animals; notification by licensee of changes to name, address, or management; swine health protection program inspection summary; permit to move restricted animals; owner-shipper statement; certificate of veterinary inspection; accredited veterinarian's statement; embryo and semen shipments; identification for swine moving interstate; swine production system health plan; interstate movement report and notification; cancellation or withdrawal of a swine production system health plan; appeal of cancellation of a swine production system health plan; shipment to slaughter seal; appraisal and indemnity claim form; report of net salvage proceeds; herd management plans; and recordkeeping.

The information collection requirements above are currently approved by the Office of Management and Budget (OMB) under OMB control numbers 0579-0137 (Swine Health Protection) and 0579-0065 (Swine Health Protection). After OMB approves this combined information collection package (0579-0065), APHIS will retire OMB control number 0579-0137.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1.89 hours per response.

Respondents: Owners/operators (licensees) of garbage treatment facilities, herd owners, food establishments, accredited veterinarians, and State animal health authorities.

Estimated annual number of respondents: 27,050.

Estimated annual number of responses per respondent: 31.55.

Estimated annual number of responses: 853,318.

Estimated total annual burden on respondents: 1,614,460 hours. (Due to averaging, the total annual burden hours may not equal the product of the annual number of responses multiplied by the reporting burden per response.)

All responses to this notice will be summarized and included in the request for OMB approval. All comments will also become a matter of public record.

Done in Washington, DC, this 23rd day of March 2017.
Jere L. Dick,
Acting Administrator, Animal and Plant Health Inspection Service.

[FR Doc. 2017-06217 Filed 3-27-17; 8:45 am]

BILLING CODE 3410-34-P